DEPARTMENT OF THE INTERIOR

Fish and Wildlife Service

Receipt of Applications for Incidental Take Permits by 23 Applicants for Proposed Single Family and Duplex Residential Construction on the Fort Morgan Peninsula, Baldwin County, AL

AGENCY: Fish and Wildlife Service, Interior.

ACTION: Notice of availability of applications for incidental take permits, habitat conservation plans and environmental assessment.

SUMMARY: Mr. Doug Calhoun, Dr. Blaine Crum, D.F. Investments, Mr. Frank Ellis, Fort Morgan Beach House, Mr. Richard Garcia, Cindy and Charles Gordon, Mrs. Virginia Grace, Mr. John Gulas, Harris Building & Investment, Mr. Richard Marty, Mr. Greg Miller (1 Duplex), Mr. Greg Miller (4 Duplexes), Mr. Gerald Nasello, Mr. Ronald Jones, Ms. Sheila Rains, Mr. George Roberds, Mr. Walter Ruzec, Mr. Daniel Sizemore, Mr. Barry Stevens, Mr. Raymond Suggs, Mr. Raymond Waddell, and Mr. Brad Williamson have applied to the U.S. Fish and Wildlife Service (FWS) for incidental take permits (ITP) pursuant to section 10(a)(1)(B) of the Endangered Species Act of 1973 (16 U.S. C. 1531 et seq.), as amended (Act) for the take of the Alabama beach mouse (Peromyscus polionotus ammobates)(ABM). The proposed take would be incidental to the otherwise lawful activity of constructing 29 single family and duplex residences on the Fort Morgan Peninsula, Alabama.

The applicants have prepared Habitat Conservation Plans (HCP) in accordance with section 10(a)(2)(A) of the Act specifying, among other things, the impacts that are likely to result from the taking and the measures each Applicant will take to minimize and mitigate such impacts. A detailed description of the proposed minimization and mitigation measures is provided in the Applicant's HCPs, and our Environmental Assessment (EA).

The proposed action would involve approval of the HCPs if the statutory issuance criteria are satisfied. The draft EA considers the environmental impacts of the proposed projects on, including but not limited to, endangered and threatened species. A detailed description of the mitigation and minimization measures to address the effects of the project to the ABM and a discussion of the conservation measures taken to preclude take of sea turtles is provided in the Applicants' HCPs, and our Environmental Assessment.

DATES: Written comments on the ITP applications, HCPs, and EA should be sent to the Service's Regional Office (see ADDRESSES) and should be received on or before April 23, 2004.

ADDRESSES: Persons wishing to review the applications, HCPs, and EA may obtain an electronic copy on compact disk by writing the Service's Southeast Regional Office, Atlanta, Georgia, at the address below. Documents will also be available for public inspection by appointment during normal business hours at the Regional Office, 1875 Century Boulevard, Suite 200, Atlanta, Georgia 30345 (Attn: Endangered Species Permits), or the Daphne Ecological Services Field Office, 1208-B Main Street, Daphne, Alabama 36526. Written data or comments concerning the application or HCP should be submitted to the Regional Office. Please reference the ITP for 23 applicants for residential development, Batch I, in requests for the documents discussed herein.

FOR FURTHER INFORMATION CONTACT: Mr. Aaron Valenta, Regional HCP Coordinator (see ADDRESSES above), telephone: 404/679-4144, or Ms. Barbara Allen, Fish and Wildlife Service Biologist, Daphne Field Office (see ADDRESS above), telephone: 251/441-5873.

SUPPLEMENTARY INFORMATION:

Public Comments Solicited

We announce the availability of an EA and HCPs/Applications for Incidental Take. The EA is a combined assessment addressing the environmental impacts associated with these projects both individually and cumulatively. Copies of the EA and the individual HCPs may be obtained by making a request to the Regional Office (see ADDRESSES). Requests should be in writing. This notice advises the public that we have opened the comment period on the permit applications and the EA. The permit applications each include HCPs. This notice is provided pursuant to Section 10 of the Act and National Environmental Policy Act regulations (40 CFR 1506.6).

We specifically request information, views, and opinions from the public on the Federal action, including the identification of any other aspects of the human environment not already identified in our EA. Further, we specifically solicit information regarding the adequacy of the HCPs as measured against our ITP issuance criteria found in 50 CFR parts 13 and 17.

If you wish to comment, you may submit comments by any one of several methods. Please reference ITP for 23 applicants for residential development, Batch I, in such comments. You may mail comments to our Regional Office (see ADDRESSES). You may also comment via the Internet to aaron_valenta@fws.gov. Please submit comments over the Internet as an ASCII file avoiding the use of special characters and any form of encryption. Please also include your name and return mailing address in your Internet message. If you do not receive a confirmation from us that we have received your internet message, contact us directly at either telephone number listed (see FURTHER INFORMATION).

Finally, you may hand deliver comments to either Service office listed (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Background

The EA considers the direct, indirect, and cumulative effects of the proposed incidental take and the measures that will be implemented to minimize and mitigate such impacts. The EA contains an analysis of three alternatives for each site, including: (1) No Action Alternative; (2) development with wholesale clearing, grading and formal landscaping; and (3) the Applicant's preferred alternative. Under Alternative 1, we would not issue the ITPs and no new construction would result. Alternative 2 would result in the construction of single family and duplex residences and the loss of 16.24 acres of ABM habitat. Alternative 3 would result in a loss of 2.72 acres consisting of the footprint of the residences and access driveways. Project effects are considered in the EA in terms of affected environment, environmental consequences, and cumulative effects to the human and natural environment.

The ABM is one of eight subspecies of the old field mouse restricted to coastal habitats. The Service estimates that ABM historically occupied approximately 45 km (28 mi) of shoreline and currently occupy approximately 37 kilometers (23 miles) of shoreline.

We believe that ABM utilize approximately 2,697 acres of lands which we have identified as ABM habitat. We have determined that these sites provide suitable habitat for ABM because they provide the following:

1. Cover or shelter;

2. food, water, air, light, minerals, or other nutritional or physiological requirements;

3. sites for breeding and rearing offspring.

Under the Preferred Alternative, project development will result in the loss of 2.72 acres of ABM habitat. Thus, this action will result in the loss of approximately 0.011 percent of the total estimated ABM habitat of 2,697 acres.

The EA considers the potential effects of the proposed projects on the ABM. Construction activities associated with site preparation, heavy equipment operations, and site alterations within habitat occupied by ABM may impact individual ABM by crushing or entombing them in their burrows, or by impairing essential breeding, feeding, or sheltering behaviors. The additional residences also increase the risk of competitors and predators of ABM such as house cats and non-native mice.

The EA considers the potential effects of the projects on nesting sea turtles. The green sea turtle has a circumglobal distribution and is found in tropical and sub-tropical waters. The Florida population of this species is federally listed as endangered; elsewhere the species is listed as threatened. Primary nesting beaches in the southeastern United States occur in a six-county area of east-central and southeastern Florida, where nesting activity ranges from approximately 350-2,300 nests annually. Our turtle nesting surveys of the Fort Morgan Peninsula, from Laguna Key west to Mobile Point, for the period 1994-2001 have not confirmed any green turtle nests, though some crawls were suspected in 1999 and 2000.

The loggerhead turtle is listed as a threatened species throughout its range. This species is circumglobal, preferring temperate and tropical waters. In the southeastern United States, 50,000 to 70,000 nests are deposited annually, about 90 percent of which occur in Florida. Most nesting in the Gulf outside of Florida appears to be in the Chandeleur Islands of Louisiana; Ship, Horn and Petit Bois Islands in Mississippi; and the Gulf-fronting sand beaches of Alabama. The Service's nesting surveys of the Fort Morgan Peninsula, from Laguna Key to Mobile Point, for the 2001 report included over 70 loggerhead turtle nests. During the 2002 nesting season, 63 nests were documented along the Alabama coast.

The Kemps ridley sea turtle is an endangered species throughout its range. Adults are found mainly in the Gulf of Mexico. Immature turtles can be found along the Atlantic coast as far north as Massachusetts and Canada. The species' historic range is tropical and temperate seas in the Atlantic Basin and in the Gulf of Mexico. Nesting occurs primarily in Tamaulipas, Mexico, but occasionally also in Texas and other southern states, including an occasional nest in North Carolina. In 1999, a Kemps ridley sea turtle nested on Bon Secour National Wildlife Refuge and another along the Gulf Islands National Seashore in Perdido Key, Florida. In 2001, two dead Kemps ridley sea turtle hatchlings were recovered, one on Bon Secour National Wildlife Refuge, and the second in Gulf Shores, Alabama.

Conservation measures, such as sea-turtle friendly lighting, removal of beach furniture from beaches during nesting season, and allowing volunteers to mark and monitor nests on each of the properties have been incorporated into each of the applicant's HCPs. These measures are expected to preclude any take of sea turtles.

Under section 9 of the Act and its implementing regulations, “taking” of endangered and threatened wildlife is prohibited. However, we, under limited circumstances, may issue permits to take such wildlife if the taking is incidental to and not the purpose of otherwise lawful activities. The Applicants have prepared HCPs which include measures for the long-term protection, management, and enhancement of ABM habitat as required for the incidental take permit application as part of the proposed project.

We will evaluate whether the issuance of the section 10(a)(1)(B) ITPs complies with section 7 of the Act by conducting an intra-Service section 7 consultation. The results of the biological opinion, in combination with the above findings, will be used in the final analysis to determine whether or not to issue the ITPs.

Dated: February 20, 2004.
J. Mitch King,
Acting Regional Director, Fish and Wildlife Service.

[FR Doc. 04-6497 Filed 3-23-04; 8:45 am]

BILLING CODE 4310-55-U